DEPARTMENT OF AGRICULTURE

Agricultural Marketing Service

[Docket # AMS-FV-08-0099]

Notice of Request for a New Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for information collection for Regulations Governing Inspection, Certification and Standards for Fresh Fruits and Vegetables, and Other Products specifically related to audit based programs. Once approved, AMS will request that OMB merge this information collection into the currently approved OMB #0581-0125, Regulations Governing Inspection, Certification, and Standards for Fresh Fruits, Vegetables and other Products.

DATES: Comments on this notice must be received on or before February 17, 2009, to be assured of consideration.

ADDRESSES: Interested persons are invited to submit written comments on the Internet at: http://www.regulations.gov or to Kenneth S. Petersen, Audit Program Coordinator, Fresh Products Branch, Fruit and Vegetable Programs, Agricultural Marketing Service, U.S. Department of Agriculture, 1400 Independence Ave., SW., Room 1661 South Building, Stop 0240, Washington, DC 20250-0240, Fax (202) 720-8871. Comments should make reference to the dates and page number of this issue of the Federal Register. All comments received will be posted without change, including any personal information provided, and will be available for public inspection via the Internet at http://www.regulations.gov or at the address cited above during regular business hours.

Additional Information: Kenneth S. Petersen, Audit Program Coordinator, Fresh Products Branch, Fruit and Vegetable Programs, Agricultural Marketing Service, U.S. Department of Agriculture, 1400 Independence Ave., SW., Room 1661 South Building, Stop 0240, Washington, DC 20250-0240; Phone (202) 720-4560; Fax (202) 720-8871; E-mail ken.petersen@usda.gov.

SUPPLEMENTARY INFORMATION: Title: Regulations Governing Inspection, Certification and Standards for Fresh Fruits, Vegetables, and Other Products 7 CFR part 51.

OMB Number: 0581-NEW.

Expiration Date of Approval: Three Years from Date of OMB Approval.

Type of Request: New Information Collection.

Abstract: The Agricultural Marketing Act of 1946, as amended 7 U.S.C. 1621 et seq. authorizes the Secretary to inspect and certify the quality of agricultural products and collect such fees as reasonable to cover the cost of services rendered. The Fresh Products Branch provides nationwide audit services for fresh fruits, vegetables, and other products to growers, shippers, importers, processors, sellers, buyers, and other financially interested parties on a “user fee” basis. The use of these services is voluntary and is made available only upon request. Information is needed to provide audit services. This information includes: The name and location of the person or company requesting the audit, the type and location of the product to be audited, the type of audit being requested, and any information that will identify the product.

In addition, any interested party who wishes to use an official logo in conjunction with the specific audit program must submit a request form for the logo's use. Information collected for the use of this logo include: The name of the company, name of the requestor, type of product, specifications for where and how the logo will be used, and the manufacturer's name and location who is reproducing this logo. Approved use of a logo requires that the interested party successfully adhere to the specific audit program requirements. As part of the audit process, auditee documentation must be made available to the Fresh Products Branch personnel for review to show conformance to the specific audit program.

Estimate of Burden: Public reporting burden for this collection of information is estimated to average 8.5 hours per response including documentation needed to conform to audit requirements.

Respondents: Growers, shippers, importers, processors, sellers, buyers, and others with a financial interest in lots of fresh fruits, vegetables and other products.

Estimated Number of Respondents: 2,000.

Estimated Number of Responses per Respondent: 1.

Estimated Total Annual Burden on Respondents: 17,000 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Dated: December 11, 2008.
James E. Link,
Administrator, Agricultural Marketing Service.

[FR Doc. E8-29829 Filed 12-16-08; 8:45 am]

BILLING CODE 3410-02-P